DEPARTMENT OF THE INTERIOR

Bureau of Indian Affairs

Notice of Final Agency Action To Take 90.94 Acres of Land, More or Less, Into Trust for the Lower Brule Sioux Tribe of Indians of South Dakota

AGENCY: Bureau of Indian Affairs, Interior.

ACTION: Notice of intent to take land into trust.

SUMMARY: This provides notice that a final agency determination has been made to acquire 90.94 acres of land, more or less, into trust for the Lower Brule Sioux Tribe of Indians of South Dakota. The United States will acquire title no sooner than thirty days after this notice is published. This notice is published in the exercise of authority delegated by the Secretary of the Interior to the Assistant Secretary—Indian Affairs by 209 DM 8.1 and pursuant to 25 CFR 151.12(b), 61 Federal Register 18082-18083, April 24, 1996.

FOR FURTHER INFORMATION CONTACT: Terrance L. Virden, Bureau of Indian Affairs, Director, Office of Trust Responsibilities, MS-4513/MIB/Code 200, 1849 C Street, NW, Washington, DC 20240; telephone (202) 208-5831.

SUPPLEMENTARY INFORMATION: On April 6, 2000, the Assistant Secretary—Indian Affairs made a final determination that the United States will accept 90.94 acres of land, more or less, in trust for the Lower Brule Sioux Tribe of Indians of South Dakota. It was determined that the acceptance of the following described land into trust, pursuant to 25 U.S.C. 465, would be in the best interest of the Lower Brule Sioux Tribe of Indians of South Dakota.

Lyman County, South Dakota

A portion of the Northeast Quarter of the Northwest Quarter (NE¼NW¼) lying North of Highway No. 16 (shown as Lot H-1 in Book 3 of Plats, Page 108) and except Lot “A” of Lester's Addition (a subdivision of the NE¼NW¼) of Section Twenty-Four (24) and the West Half of the Southwest Quarter (W½SW¼) of Section Thirteen (13), the Northwest Quarter of the Northwest Quarter of the Northwest Quarter (NW¼NW¼NW¼) of Section Twenty-Four (24), and the Northeast Quarter of the Northwest Quarter of the Northwest Quarter (NE¼NW¼NW¼) of Section Twenty-Four (24), Township One Hundred Four North (104N), Range Seventy-Two West (72W) of the Fifth Principal Meridian, Lyman County, South Dakota.

Subject to any valid existing easements for public roads and highways, for public utilities and for railroads and pipelines and any other rights-of-way or reservations of record.

Dated: May 12, 2000.
Kevin Gover,
Assistant Secretary—Indian Affairs.

[FR Doc. 00-12585 Filed 5-17-00; 8:45 am]

BILLING CODE 4310-02-P